DEPARTMENT OF COMMERCE

International Trade Administration

[A-533-808]

Stainless Steel Wire Rods From India: Final Results of Antidumping Duty New-Shipper Review

AGENCY: Import Administration, International Trade Administration, Department of Commerce.

SUMMARY: On October 26, 2007, the Department of Commerce published the preliminary results of a new-shipper review of the antidumping duty order on stainless steel wire rods from India. The stainless steel wire rods (wire rods) were produced and exported by Sunflag Iron & Steel Co., Ltd. (Sunflag). The period of review (POR) is December 1, 2005, through November 30, 2006. Based on our analysis of comments received, we have not made any changes to our decision to apply adverse facts available to Sunflag's U.S. sales. Therefore, our final results are identical to our preliminary results. The final results are listed below in the section entitled “Final Results of the New-Shipper Review”.

EFFECTIVE DATE: January 28, 2008.

FOR FURTHER INFORMATION CONTACT: Catherine Cartsos or Minoo Hatten, AD/CVD Operations, Office 5, Import Administration, International Trade Administration, U.S. Department of Commerce, 14th Street and Constitution Avenue, NW., Washington, DC 20230; telephone: (202) 482-1757 and (202) 482-1690, respectively.

SUPPLEMENTARY INFORMATION:

Background

On October 26, 2007, the Department of Commerce (the Department) published the preliminary results of the new-shipper review of the antidumping duty order on stainless steel wire rods from India. See Stainless Steel Wire Rods from India: Preliminary Results of Antidumping Duty New-Shipper Review, 72 FR 60808 (October 26, 2007). We invited interested parties to comment on the preliminary results. Sunflag filed a case brief on November 26, 2007. Domestic interested parties, Carpenter Technology Corp., North American Stainless, and Universal Stainless & Alloy Products, Inc., filed a rebuttal brief on November 27, 2007.

Scope of the Order

The merchandise under review is wire rods, which are hot-rolled or hot-rolled annealed and/or pickled rounds, squares, octagons, hexagons or other shapes, in coils. Wire rods are made of alloy steels containing, by weight, 1.2 percent or less of carbon and 10.5 percent or more of chromium, with or without other elements. These products are only manufactured by hot-rolling and are normally sold in coiled form, and are of solid cross section. The majority of wire rods sold in the United States are round in cross-section shape, annealed, and pickled. The most common size is 5.5 millimeters in diameter.

The wire rods subject to this order are currently classifiable under subheadings 7221.00.0005, 7221.00.0015, 7221.00.0030, 7221.00.0045, and 7221.00.0075 of the Harmonized Tariff Schedule of the United States (HTSUS). Although the HTSUS subheadings are provided for convenience and customs purposes, the written description of the merchandise subject to the order is dispositive of whether the merchandise is covered by the order.

Analysis of Comments Received

All issues raised in the case and rebuttal briefs by parties to this new-shipper review are addressed in the “Issues and Decision Memorandum” (Decision Memorandum) from Stephen J. Claeys, Deputy Assistant Secretary for Import Administration, to David M. Spooner, Assistant Secretary for Import Administration, dated January 17, 2008, which is hereby adopted by this notice. A list of the issues which the parties have raised and to which we have responded is attached to this notice as an appendix. Parties can find a complete discussion of all issues raised and corresponding recommendations in this public memorandum, which is on file in Import Administration's Central Records Unit, Room B-099 of the main Department building. In addition, a complete version of the Decision Memorandum is available on the Internet at http://iaita.doc.gov/frn/index.html. The paper copy and electronic version of the Decision Memorandum are identical in content.

No Changes Since the Preliminary Results

Based on our analysis of the comments received, the Department has made no changes in the final results from the preliminary results of new-shipper review and confirms its decision to apply adverse facts available to Sunflag's U.S. sales. Accordingly, as a result of our review we determine that a dumping margin of 48.80 percent exists for Sunflag for the period December 1, 2005, through November 30, 2006.

Final Results of the New-Shipper Review

We determine that the adverse facts-available margin on stainless steel wire rods from India produced and exported by Sunflag for the period December 1, 2005, through November 30, 2006, is 48.80 percent.

Assessment Rates

The Department will determine, and U.S. Customs and Border Protection (CBP) shall assess, antidumping duties on all appropriate entries. Because we are relying on total adverse facts available to establish Sunflag's dumping margin, we will instruct CBP to apply a dumping margin of 48.80 percent to all entries of subject merchandise during the POR that were produced and exported by Sunflag. We intend to issue appropriate assessment instructions directly to CBP 15 days after the publication of these final results of the new-shipper review.

Cash-Deposit Requirements

The following deposit requirements will be effective upon publication of this notice of final results of the new-shipper review for all shipments of the subject merchandise entered, or withdrawn from warehouse, for consumption on or after the date of publication, consistent with section 751(a)(2)(C) of the Tariff Act of 1930, as amended (the Act): (1) The cash-deposit rate for stainless steel wire rods that were produced and exported by Sunflag will be 48.80 percent; (2) for previously reviewed or investigated companies not listed above, the cash-deposit rate will continue to be the company-specific rate published for the most recent period; (3) if the exporter is not a firm covered in this review, a prior review, or the original less-than-fair-value investigation, but the manufacturer is, the cash-deposit rate will be the rate established for the most recent period for the manufacturer of the merchandise; and (4) the cash-deposit rate for all other manufacturers or exporters will continue to be the all-others rate of 48.80 percent, which is the all-others rate established in the less-than-fair-value investigation. See Final Determination of Sales at Less Than Fair Value: Certain Stainless Steel Wire Rods from India, 58 FR 54110 (October 20, 1993). These cash-deposit rates shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to an administrative protective order of their responsibility concerning the disposition of proprietary information disclosed under such an order in accordance with 19 CFR 351.305(a)(3). Timely notification of the return or destruction of administrative-protective-order materials or conversion to judicial protective order is hereby requested. Failure to comply with the regulations and the terms of an administrative protective order is a sanctionable violation.

We are issuing and publishing this notice in accordance with sections 751(a)(2)(B) and 777(i)(1) of the Act.

Dated: January 17, 2008.
David M. Spooner,
Assistant Secretary for Import Administration.

Appendix

Comment 1: Errors in Home-Market Sales

Comment 2: Incomplete Home-Market Sales

Comment 3: Miscellaneous Errors

Comment 4: Ill-Preparedness for Verification

[FR Doc. E8-1443 Filed 1-25-08; 8:45 am]

BILLING CODE 3510-DS-P